SMALL BUSINESS ADMINISTRATION

[Declaration of Disaster #3620]

State of Florida

As a result of the President's major disaster declaration on September 4, 2004, and a notice received from the Department of Homeland Security—Federal Emergency Management Agency—on September 5, 2004, I find that Brevard, Broward, Citrus, Glades, Hernando, Highlands, Indian River, Lake, Martin, Miami-Dade, Okeechobee, Orange, Osceola, Palm Beach, Pasco, Polk, St. Lucie and Sumter Counties in the State of Florida constitute a disaster area due to damages caused by Hurricane Frances occurring on September 3, 2004, and continuing. Applications for loans for physical damage as a result of this disaster may be filed until the close of business on November 3, 2004 and for economic injury until the close of business on June 6, 2005 at the address listed below or other locally announced locations:

U.S. Small Business Administration, Disaster Area 2 Office, One Baltimore Place, Suite 300, Atlanta, GA 30308.

In addition, applications for economic injury loans from small businesses located in the following contiguous counties in Florida may be filed until the specified date at the above location: Charlotte, Collier, DeSoto, Hardee, Hendry, Hillsborough, Lee, Levy, Manatee, Marion, Monroe, Pinellas, Seminole, and Volusia in Florida.

The interest rates are:

| Percent
For Physical Damage:
Homeowners with credit available elsewhere | 6.375
Homeowners without credit available elsewhere | 3.187
Businesses with credit available elsewhere | 5.800
Businesses and Non-Profit Organizations without credit available elsewhere | 2.900
Others (Including Non-Profit Organizations) with credit available elsewhere | 4.875
For Economic Injury:
Businesses and Small Agricultural Cooperatives without credit available elsewhere | 2.900

The number assigned to this disaster for physical damage is 362008 and for economic injury the number is 9ZU100 for Florida.

(Catalog of Federal Domestic Assistance Program Nos. 59002 and 59008)
Dated: September 7, 2004.
Herbert L. Mitchell,
Associate Administrator for Disaster Assistance.

[FR Doc. 04-20632 Filed 9-13-04; 8:45 am]

BILLING CODE 8025-01-P